DEPARTMENT OF HOMELAND SECURITY

Coast Guard

33 CFR Part 165

[CGD13-04-016]

RIN 1625 AA00

Safety Zones: Fireworks displays in the Captain of the Port Portland Zone

AGENCY: Coast Guard, DHS.

ACTION: Notice of proposed rulemaking.

SUMMARY: The Coast Guard proposes to establish safety zones on the waters located in their AOR during fireworks displays. The Captain of the Port, Portland, Oregon, is taking this action to safeguard watercraft and their occupants from safety hazards associated with these displays. Entry into these safety zones would be prohibited unless authorized by the Captain of the Port.

DATES: Comments and related material must reach the Coast Guard on or before June 14, 2004.

ADDRESSES: Comments and material received from the public, as well as documents indicated in this preamble as being available in the docket, are available for inspection or copying at the U.S. Coast Guard MSO/Group Portland, 6767 N. Basin Ave, Portland, Oregon 97217 between 7 a.m. and 4 p.m., Monday through Friday, except Federal holidays.

FOR FURTHER INFORMATION CONTACT: Lieutenant Junior Grade Ryan Wagner, c/o Captain of the Port, Portland 6767 N. Basin Avenue, Portland, Oregon 97217, (503) 240-2584.

SUPPLEMENTARY INFORMATION:

Request for Comments

We encourage you to participate in this rulemaking by submitting comments and related material. If you do so, please include your name and address, identify the docket number for this rulemaking [CGD13-04-016], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Marine Safety Office Puget Sound at the address under ADDRESSES explaining why one would be beneficial. If we determine that one would aid this rulemaking, we will hold one at a time and place announced by a later notice in the Federal Register.

Background and Purpose

The Coast Guard proposes to establish permanent safety zones to allow for safe fireworks displays. These events may result in a number of vessels congregating near fireworks launching barges and sites. Safety zones are needed to protect watercraft and their occupants from safety hazards associated with fireworks displays.

Discussion of Proposed Rule

This rule, for safety concerns, would control vessel movements in regulated areas surrounding fireworks launching barges and sites. Entry into these zones would be prohibited unless authorized by the Captain of the Port, Portland, or his designated representative. Coast Guard personnel would enforce these safety zones. The Captain of the Port may be assisted by other federal state and local agencies.

Regulatory Evaluation

This proposed rule is not a “significant regulatory action” under section 3(f) of Executive Order 12866 and does not require an assessment of potential costs and benefits under section 6(a)(3) of that Order. The Office of Management and Budget has not reviewed this proposed rule under that Order. This proposed rule is not “significant” under the regulatory policies and procedures of the Department of Transportation (DOT) (44 FR 11040; February 26, 1979). The Coast Guard expects the economic impact of this proposal to be so minimal that a full Regulatory Evaluation under paragraph 10e of the regulatory policies and procedures act of DOT is unnecessary. This expectation is based on the fact that the regulated areas established by the proposed regulation will encompass small portions of rivers in the Portland AOR on different dates, all in the evening when vessel traffic is low.

Small Entities

Under the Regulatory Flexibility Act (5 U.S.C. 601 et seq.), we considered whether this proposed rule would have a significant economic impact on a substantial number of small entities. The term “small entities” include small businesses, not-for-profit organizations that are independently owned and operated and are not dominant in their fields, and governmental jurisdictions with populations of less than 50,000. This proposed rule would affect the following entities, some of which may be small entities: the owners or operators of vessels intending to transit a portion of the Willamette River during the enforcement periods These safety zones would not have significant economic impact on a substantial number of small entities for the following reasons. This rule would be in effect for only thirty minutes during two evenings when vessel traffic is low. Traffic would be allowed to pass through the zone with the permission of the Captain of the Port or his designated representatives on scene, if safe to do so. Because the impacts of this proposal are expected to be so minimal, the Coast Guard certifies under 5 U.S.C. 605(b) of the Regulatory Flexibility Act (5 U.S.C. 601 et seq.) that this rule would not have a significant economic impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding the rule so that they can better evaluate its effects on them and participate in the rulemaking process. If the rule would affect your small business, organization, or governmental jurisdiction and you have questions concerning its provisions or options for compliance, please contact the person listed in the FOR FURTHER INFORMATION CONTACT section.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Indian Tribal Governments

This proposed rule does not have tribal implications under Executive Order 13175, Consultation and Coordination with Indian tribal governments, because it does not have a substantial direct effect on one or more Indian tribes, on the relationship between the federal government and Indian tribes, or on the distribution of power and responsibilities between the federal government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this proposed rule and concluded that, under figure 2-1, paragraph (34)(g) of Commandant Instruction M16475.1C, this rule is categorically excluded from further environmental documentation. A Categorical Exclusion is provided for temporary safety zones of less than one week in duration. This rule establishes safety zones with a duration of thirty minutes.

List of Subjects in 33 CFR Part 165

Harbors, Marine safety, Navigation (water), Reporting and RecordKeeping Requirements, Security Measures, Waterways.

For the reasons discussed in the preamble, the Coast Guard proposes to amend 33 CFR Part 165 as follows:

PART 165—REGULATED NAVIGATION AREAS AND LIMITED ACCESS AREAS

1. The authority citation for Part 165 continues to read as follows:

Authority: 33 U.S.C. 1226, 1231; 46 U.S.C. Chapter 701; 50 U.S.C. 191, 195; 33 CFR 1.05-1(g), 6.04-1, 6.04-6 and 160.5; Pub. L. 107-295, 116 Stat. 2064; Department of Homeland Security Delegation No. 0170.1.

§ 165.1315 [Amended]

2. In § 165.1315, add (a)(9) to (a)(19) to read as follows:

(a) * * *

(9) City of Milwaukie Celebration Fireworks Display, Milwaukie, OR:

(i) Location. All water of the Willamette River enclosed by the following points: 45°26′41″ N, 122°38′46″ W following the shoreline to 45°26′17″ N 122°38′36″ W then west to 45°26′17″ N 122°38′55″ W following the shoreline to 45°26′36″ N 122°38′50″ W then back to the point of origin.

(ii) Enforcement period. Annually on the third Saturday of July.

(10) Gladstone Celebration Fireworks Display, Gladstone, OR:

(i) Location. All water of the Willamette River on Meldrum Bar south of Rivergreen Golf Course enclosed by the following points: 45°22′29″ N, 122°36′42″ W following the shoreline to 45°22′23″ N, 122°36′23″ W then west to 45°22′14″ N 122°36′26″ W following the shoreline to 45°22′24″ N 122°36′44″ W then back to the point of origin.

(ii) Enforcement period. Annually on July 4.

(11) Oaks Park July 4th Celebration, Portland, OR

(i) Location. All water of the Willamette River enclosed by the following points enclosed by the following points: 45°28′26″ N 122°39′43″ W following the shoreline to 45°28′10″ N 122°39′54″ W then west to 45°28′41″ N 122°40′06″ W following the shoreline to 45°28′31″ N 122°40′01″ W then back to the point of origin.

(ii) Enforcement period. Annually on July 4.

(12) Fort Vancouver 4th of July Celebration, Vancouver, WA

(i) Location. All water of the Columbia River enclosed by the following points: 45°31′16″ N 122°40′18″ following the shoreline to 45°36′55″ N 122°39′11″ W south to 45°35′28″ N 122°39′19″ W following the shoreline to 45°36′52″ N 122°40′32″ W then back to the point of origin.

(ii) Enforcement period. Annually on July 4.

(13) St. Helens 4th of July, St. Helens, OR

(i) Location. All water of the Columbia River extending out to a 1200′ radius from the barge centered at 45°51′57″ N 122°47′02″ W.

(ii) Enforcement period. Annually on July 4.

(14) East County 4th of July Fireworks, Gresham, OR

(i) Location. All water of the Columbia River enclosed by the following points: 45°32′29″ N 122°47′32″ W following the shoreline to 45°33′45″ N 122°26′54″ W then south to 45°33′29″ N 122°26′37″ W following the shoreline to 45°33′29″ N 122°27′32″ W back to the point of origin.

(ii) Enforcement period. Annually on July 4.

(15) City of Cascade Locks 4th of July, Cascade Locks, OR

(i) Location. All water of the Columbia River extending out to a 2000′ radius from the launch site at 45°40′16″ N 122°53′38″ W.

(ii) Enforcement period. Annually on July 4.

(16) Arlington Chamber of Commerce Fireworks, Arlington, OR

(i) Location. All water of the Columbia River extending out to a 500′ radius from the launch site at 45°43′23″ N 122°12′08″ W.

(ii) Enforcement period. Annually on July 4.

(17) Western Display 4th of July Party, Vancouver, WA

(i) Location. All water of the Columbia River extending out to a 500′ radius from the launch site at 45°35′46″ N 122°32′22″ W.

(ii) Enforcement period. Annually on July 4.

(18) Ilwaco July 4th Committee Fireworks, Ilwaco, WA

(i) Location. All water of the Columbia River extending out to a 700′ radius from the launch site at 46°18′17″ N 124°01′55″ W.

(ii) Enforcement period. Annually on July 4.

(19) Florence Chamber 4th of July, Florence, OR

(i) Location. All water of the Siuslaw River enclosed by the following points: 43°57′58″ N 124°06′29″ W following the shoreline to 43°58′08″ N 124°05′42″ W then south to 43°57′53″ N 124°05′31″ W following the shoreline to 43°57′48″ N 124°06′29″ W back to the point of origin.

(ii) Expected date. Annually on July 4th.

(b) Regulations. In accordance with the general regulations in Section 165.23 of this part, no person or vessel may enter or remain in this zone unless authorized by the Captain of the Port or his designated representatives.

Dated: April 27, 2004.
Paul D. Jewell,
Captain, U.S. Coast Guard, Captain of the Port.

[FR Doc. 04-10813 Filed 5-12-04; 8:45 am]

BILLING CODE 4910-15-P